DEPARTMENT OF TRANSPORTATION

Coast Guard

33 CFR Part 117

[CGD01-01-060]

Drawbridge Operation Regulations: Connecticut River, CT

AGENCY: Coast Guard, DOT.

ACTION: Notice of temporary deviation from regulations.

SUMMARY: The Commander, First Coast Guard District, has issued a temporary deviation from the drawbridge operation regulations for the Route 82 Bridge, mile 16.8, across the Connecticut River at East Haddam, Connecticut. This deviation from the regulations authorizes the bridge owner to keep the bridge in the closed position from 6 p.m. on May 21, 2001 through 6 a.m. on May 22, 2001. This deviation is necessary in order to facilitate necessary repairs at the bridge.

DATE: This deviation is effective from May 21, 2001, through May 22, 2001.

FOR FURTHER INFORMATION CONTACT: Joseph Schmied, Project Officer, First Coast Guard District, at (212) 668-7195.

SUPPLEMENTARY INFORMATION: The Route 82 Bridge, at mile 16.8, across the Connecticut River has a vertical clearance in the closed position of 22 feet at mean high water and 25 feet at mean low water. The existing drawbridge operating regulations are listed at 33 CFR 117.205(c).

The owner of the bridge, Connecticut Department of Transportation, requested a temporary deviation from the drawbridge operating regulations to facilitate the replacement of the pulley system for the submarine cables at the bridge. The bridge can not open for vessel traffic during this repair work.

This deviation to the operating regulations authorizes the owner of the Route 82 Bridge to keep the bridge in the closed position from 6 p.m. on May 21, 2001 through 6 a.m. on May 22, 2001.

In accordance with 33 CFR 117.35(c), this work will be performed with all due speed in order to return the bridge to normal operation as soon as possible. This deviation from the operating regulations is authorized under 33 CFR 117.35.

Dated: April 27, 2001.
G.N. Naccara,
Rear Admiral, U.S. Coast Guard, Commander, First Coast Guard District.

[FR Doc. 01-11561 Filed 5-7-01; 8:45 am]

BILLING CODE 4910-15-P